ENVIRONMENTAL PROTECTION AGENCY

[FRL- 9717-1]

Science Advisory Board Staff Office Request for Nominations of Experts for the SAB Hydraulic Fracturing Advisory Panel

AGENCY: Environmental Protection Agency (EPA).

ACTION: Notice.

SUMMARY: The EPA Science Advisory Board (SAB) Staff Office is requesting public nominations for technical experts to form an SAB ad hoc panel to provide advice through the chartered SAB on EPA's research related to hydraulic fracturing.

DATES: Nominations should be submitted by September 11, 2012 per instructions below.

FOR FURTHER INFORMATION CONTACT: Any member of the public wishing further information regarding this Notice and Request for Nominations may contact Mr. Edward Hanlon, Designated Federal Officer (DFO), SAB Staff Office, by telephone/voice mail at (202) 564-2134; by fax at (202) 565-2098 or via email at hanlon.edward@epa.gov. General information concerning the EPA SAB can be found at the EPA SAB Web site at http://www.epa.gov/sab. Any inquiry regarding EPA's planned research efforts on the potential public health and environmental protection issues that may be associated with hydraulic fracturing should be directed to Ms. Cindy Roberts, EPA Office of Research and Development (ORD), at roberts.cindy@epa.gov or (202) 564-1999. Media inquiries regarding EPA's hydraulic fracturing research results should be directed to Dayna Gibbons, EPA ORD, at gibbons.dayna@epa.gov or (202) 564-7983.

SUPPLEMENTARY INFORMATION: Background: The SAB (42 U.S.C. 4365) is a chartered Federal Advisory Committee that provides independent scientific and technical peer review, advice, consultation, and recommendations to the EPA Administrator on the technical basis for EPA actions. As a Federal Advisory Committee, the SAB conducts business in accordance with the Federal Advisory Committee Act (FACA) (5 U.S.C. App. 2) and related regulations. The SAB will comply with the provisions of FACA and all appropriate SAB Staff Office procedural policies.

Over the past few years, the public has expressed concern regarding the potential environmental impacts of hydraulic fracturing. In response, Congress urged EPA to study the potential impacts of hydraulic fracturing on drinking water resources. In February 2011, EPA published its Draft Plan to Study the Potential Impacts of Hydraulic Fracturing on Drinking Water Resources. The SAB reviewed this report and provided advice to the EPA Administrator (SAB Review of EPA's Draft Hydraulic Fracturing Study Plan). EPA-SAB-11-012, available on the SAB Web site at http://yosemite.epa.gov/sab/sabproduct.nsf/2BC3CD632FCC0E99852578E2006DF890/$File/EPA-SAB-11-012-unsigned.pdf).

EPA ORD is currently developing a “Progress Report: Potential Impacts of Hydraulic Fracturing on Drinking Water Resources,” expected to be released in December 2012, which will describe the status of its research on the potential environmental and human health implications of hydraulic fracturing. EPA is seeking SAB advice on the status of the research described in its Progress Report. EPA plans to use such advice for the development of a report of results, estimated to be released in 2014, which will also be reviewed by the SAB. The SAB Staff Office is establishing an ad hoc advisory panel to provide such advice and review under the auspices of the SAB. In addition, this SAB Panel may also provide advice on other technical documents and issues related to hydraulic fracturing upon further request by EPA.

Request for Nominations: The SAB Staff Office is seeking nominations of nationally and internationally recognized scientists and engineers having experience and expertise related to hydraulic fracturing, including but not limited to the following disciplines or areas of experience: Natural gas and petroleum engineering and geology; natural gas and petroleum well drilling, completion, testing, and closure; hydrology/hydrogeology; groundwater and surface water fate/transport modeling; geochemistry and analytical chemistry; environmental monitoring; conducting laboratory and/or field-based research in hydraulic fracturing; human health effects and risk assessment; civil and environmental engineering; chemical engineering; drinking water and waste water treatment systems; water quality; and statistics.

Process and Deadline for Submitting Nominations: Any interested person or organization may nominate qualified individuals in the areas of expertise described above. Nominations should be submitted in electronic format (preferred over hard copy) following the instructions for “Nominating Experts to Advisory Panels and Ad Hoc Committees Being Formed,” http://www.epa.gov/sab provided on the SAB Web site. If you wish to nominate yourself or another expert, please follow the instructions that can be accessed through the “Nomination of Experts” link on the blue navigational bar at the SAB Web site http://www.epa.gov/sab. To http://www.epa.gov/ receive full consideration, nominations should include all of the information requested below.

EPA's SAB Staff Office requests contact information about the person making the nomination; contact information about the nominee; the disciplinary and specific areas of expertise of the nominee; the nominee's resume or curriculum vita; sources of recent grant and/or contract support; and a biographical sketch of the nominee indicating current position, educational background, research activities, and recent service on other national advisory committees or national professional organizations. The bio-sketches and resume or curriculum vita of nominees identified by respondents to this Federal Register notice, and additional experts identified by the SAB Staff, will be made available to the public upon request.

Persons having questions about the nomination procedures, or who are unable to submit nominations through the SAB Web site, should contact Mr. Edward Hanlon, DFO, as indicated above in this notice. Nominations should be submitted in time to arrive no later than September 11, 2012. EPA values and welcomes diversity. In an effort to obtain nominations of diverse candidates, EPA encourages nominations of women and men of all racial and ethnic groups.

The EPA SAB Staff Office will acknowledge receipt of nominations. The names and bio-sketches of qualified nominees identified by respondents to this Federal Register notice, and additional experts identified by the SAB Staff, will be posted in a List of Candidates on the SAB Web site at http://www.epa.gov/sab. Public comments on this List of Candidates will be accepted for 21 days. The public will be requested to provide relevant information or other documentation on nominees that the SAB Staff Office should consider in evaluating candidates.

For the EPA SAB Staff Office a review panel includes candidates who possess the necessary domains of knowledge, the relevant scientific perspectives (which, among other factors, can be influenced by work history and affiliation), and the collective breadth of experience to adequately address the charge. In forming this expert panel, the SAB Staff Office will consider public comments on the List of Candidates, information provided by the candidates themselves, and background information independently gathered by the SAB Staff Office. Selection criteria to be used for panel membership include: (a) Scientific and/or technical expertise, knowledge, and experience (primary factors); (b) availability and willingness to serve; (c) absence of financial conflicts of interest; (d) absence of an appearance of a lack of impartiality; (e) skills working in committees, subcommittees and advisory panels; and, (f) for the panel as a whole, diversity of expertise and viewpoints.

The SAB Staff Office's evaluation of an absence of financial conflicts of interest will include a review of the “Confidential Financial Disclosure Form for Special Government Employees Serving on Federal Advisory Committees at the U.S. Environmental Protection Agency” (EPA Form 3110-48). This confidential form allows government officials to determine whether there is a statutory conflict between a person's public responsibilities (which includes membership on an EPA federal advisory committee) and private interests and activities, or the appearance of a lack of impartiality, as defined by federal regulation. The form may be viewed and downloaded from the following URL address http://www.epa.gov/sab/pdf/epaform3110-48.pdf.

The approved policy under which the EPA SAB Office selects subcommittees and review panels is described in the following document: Overview of the Panel Formation Process at the Environmental Protection Agency Science Advisory Board (EPA-SAB-EC-02-010), which is posted on the SAB Web site at http://www.epa.gov/sab/pdf/ec02010.pdf.

Dated: August 10, 2012.
Thomas Brennan,
Deputy Director, EPA Science Advisory Board Staff Office.

[FR Doc. 2012-20521 Filed 8-20-12; 8:45 am]

BILLING CODE 6560-50-P